FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
4014F | Air Cargo Centralam, Inc., 8001 S.W. 157th Court, Miami, FL 33193 | October 13, 2000.
1483NF | Tokyo Express Co., Inc., 70 Charter Oak Avenue, San Francisco, CA 94124 | July 13, 2000.

Sandra L. Kusumoto,
Director, Bureau of Consumer Complaints and Licensing.

[FR Doc. 00-31070 Filed 12-5-00; 8:45 am]

BILLING CODE 6730-01-P